DEPARTMENT OF ENERGY

[Docket No. 16-144-LNG]

Change In Control: Louisiana LNG Infrastructure LLC

AGENCY: Office of Fossil Energy and Carbon Management, Department of Energy.

ACTION: Notice of change in control.

SUMMARY: The Office of Fossil Energy and Carbon Management (FECM) of the Department of Energy (DOE) gives notice of receipt of a Statement of Change in Control filed by Louisiana LNG Infrastructure LLC (Louisiana LNG) on May 1, 2025 (Statement). The Statement describes an anticipated change in Louisiana LNG's upstream ownership. The Statement was filed under the Natural Gas Act, and in accordance with DOE's regulations and DOE's Procedures for Changes in Control Affecting Applications and Authorizations to Import or Export Natural Gas (CIC Procedures).

DATES: Protests, motions to intervene, or notices of intervention, as applicable, and written comments are to be filed as detailed in the Public Comment Procedures section no later than 4:30 p.m., Eastern time, June 9, 2025.

ADDRESSES:

Electronic Filing by Email (strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Irene V. Norville, U.S. Department of Energy (GC-76), Office of the Assistant General Counsel for Energy Delivery and Resilience, Forrestal Building, Room 6D-033, 1000 Independence Avenue SW, Washington, DC 20585, (240) 702-5679, irene.norville@hq.doe.gov.

SUPPLEMENTARY INFORMATION:

Summary of Change in Control

According to the Statement, Louisiana LNG is currently an indirect, wholly-owned subsidiary of Woodside Energy Holdings (NA) LLC, a Delaware limited liability company and an indirect, wholly-owned subsidiary of Woodside Energy Group Ltd (Woodside), an Australian company. Louisiana LNG states that, earlier this year, Woodside entered into a binding agreement with Stonepeak Wallaby I Acquiror LP (Stonepeak), a Delaware limited partnership, under which Stonepeak will acquire a 40 percent equity interest in Louisiana LNG (Proposed Transaction). Specifically, Stonepeak will contribute approximately $5.7 billion in equity toward the expected capital expenditure for the development of the first three liquefaction plants (and associated common facilities) of the Woodside Louisiana LNG Project, the proposed facility—currently under construction—from which Louisiana LNG holds authorization to export liquefied natural gas (LNG).

Louisiana LNG states that the Proposed Transaction is anticipated to close in the second quarter of 2025. Louisiana LNG further states that, after the Proposed Transaction is consummated, it will continue to be the sole holder of the export authorizations at issue.

The Statement includes a chart illustrating the ownership structure of Louisiana LNG following the closing of the Proposed Transaction. Additional details can be found in the Statement, posted on the DOE website at: https://www.energy.gov/sites/default/files/2025-05/LALNG%20CIC%20%28Stonepeak%29.pdf.

DOE Evaluation

DOE will review the Statement in accordance with its CIC Procedures.¹ Consistent with the CIC Procedures, this notice addresses Louisiana LNG's existing authorization to export LNG to countries with which the United States has not entered into a free trade agreement (FTA) requiring national treatment for trade in natural gas and with which trade is not prohibited by United States law or policy (non-FTA countries), granted in DOE/FE Order No. 4373,² as amended.³ If no interested person protests the change in control and DOE takes no action on its own motion, the proposed change in control will be deemed granted 30 days after publication in the Federal Register. If one or more protests are submitted, DOE will review any motions to intervene, protests, and answers, and will issue a determination as to whether the proposed change in control has been demonstrated to render the underlying authorization inconsistent with the public interest.

¹ 79 FR 65541 (Nov. 5, 2014).

² FECM, formerly called the Office of Fossil Energy (FE), changed its name on July 4, 2021.

³ Louisiana LNG's Statement also applies to the company's existing authorization to export LNG to FTA countries in the same docket. DOE will respond to that portion of the filing separately pursuant to the CIC Procedures, 79 FR at 65542.

Public Comment Procedures

Interested persons will be provided 15 days from the date of publication of this notice in the Federal Register to move to intervene, protest, and answer the Statement.⁴ Protests, motions to intervene, notices of intervention, and written comments are invited in response to this notice only as to the change in control described in the Statement. All protests, comments, motions to intervene, or notices of intervention must meet the requirements specified by DOE's regulations in 10 CFR part 590, including the service requirements.

⁴ Intervention, if granted, would constitute intervention only in the change in control portion of these proceedings, as described herein.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 16-144-LNG” or “Louisiana LNG Change in Control” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Statement, and any filed protests, motions to intervene, notices of intervention, and comments will be available electronically on the DOE website at www.energy.gov/fecm/regulation.

Signed in Washington, DC, on May 19, 2025.
Amy R. Sweeney,
Director, Office of Regulation, Analysis, and Engagement, Office of Resource Sustainability.

[FR Doc. 2025-09289 Filed 5-22-25; 8:45 am]

BILLING CODE 6450-01-P